DEPARTMENT OF AGRICULTURE

Forest Service

Notice of Mineral County Resource Advisory Committee Meeting

AGENCY: Forest Service, USDA.

ACTION: Notice of meeting.

SUMMARY: Pursuant to the authorities in the Federal Advisory Committee Act (Public Law 92-463) and under the Secure Rural Schools and Community Self-Determination Act of 2000 (Public Law 106-393) the Lolo National Forest's Mineral County Resource Advisory Committee will meet on November 12 at 6 p.m. until 8 p.m. in Superior, Montana for a business meeting. The meeting is open to the public.

DATES: November 12, 2002.

ADDRESSES: The meeting will be held at the Mineral County Courthouse, 300 River Street, Superior, MT 59872.

FOR FURTHER INFORMATION CONTACT: Robert Harper, Designated Forest Official (DFO), District Ranger, Superior District, Lolo National Forest at (406) 822-4233.

SUPPLEMENTARY INFORMATION: Agenda topics for this meeting include establishing operating guidelines, and discussion about funding projects. If the meeting location is changed, notice will be posted in local newspapers, including the Mineral Independent and the Missoulian.

Dated: October 17, 2002.
Robert Harper,
Designated Federal Official, District Ranger, Superior Ranger District.

[FR Doc. 02-27313 Filed 10-25-02; 8:45 am]

BILLING CODE 3410-11-M